DEPARTMENT OF COMMERCE

National Oceanic and Atmospheric Administration

50 CFR Part 229

[Docket No. 050127019-5178-02; I.D. 120304D]

RIN 0648-AS01

Taking of Marine Mammals Incidental to Commercial Fishing Operations; Atlantic Large Whale Take Reduction Plan Regulations

AGENCY: National Marine Fisheries Service (NMFS), National Oceanic and Atmospheric Administration (NOAA), Commerce.

ACTION: Proposed rule; extension of public comment period.

SUMMARY: On June 21, 2005, a proposed rule to amend the regulations implementing the Atlantic Large Whale Take Reduction Plan (ALWTRP) was published in the Federal Register. NMFS is extending the comment period on this proposed rule by 30 days to August 22, 2005, to allow the public a full 60 days to submit comments.

DATES: Comments on the proposed rule must be received by 5 p.m. EST on August 22, 2005.

ADDRESSES: Comments may be submitted on this proposed rule, identified by RIN 0648-AS01, by any one of the following methods:

(1) NMFS/Northeast Region website: http://www.nero.noaa.gov/nero/regs/com.html. Follow the instructions on the website for submitting comments.

(2) Federal eRulemaking Portal: http://www.regulations.gov. Follow the instruction on the website for submitting comments.

(3) E-mail: whalerule.comments@noaa.gov. Please include the RIN 0648-AS01 in the subject line of the message.

(4) Mail: Mary Colligan, Assistant Regional Administrator for Protected Resources, NMFS, Northeast Region, 1 Blackburn Dr., Gloucester, MA 01930, ATTN: ALWTRP Proposed Rule.

(5) Facsimile (fax) to: 978-281-9394, ATTN: ALWTRP Proposed Rule.

Copies of the Draft Environmental Impact Statement/Regulatory Impact Review for this action can be obtained from the ALWTRP website listed under the Electronic Access portion of this document. Atlantic Large Whale Take Reduction Team (ALWTRT) meeting summaries, and progress reports on implementation of the ALWTRP may be obtained by writing Diane Borggaard, NMFS, Northeast Region, 1 Blackburn Dr., Gloucester, MA 01930 or Juan Levesque, NMFS, Southeast Region, 9721 Executive Center Dr., St.Petersburg, FL 33702-2432. For additional ADDRESSES and web sites for document availability see SUPPLEMENTARY INFORMATION.

FOR FURTHER INFORMATION CONTACT: Diane Borggaard, NMFS, Northeast Region, 978-281-9300 Ext. 6503, diane.borggaard@noaa.gov; Kristy Long, NMFS, Office of Protected Resources, 301-713-2322, kristy.long@noaa.gov; or Barb Zoodsma, NMFS, Southeast Region, 904-321-2806, barb.zoodsma@noaa.gov.

SUPPLEMENTARY INFORMATION:

Electronic Access

Several of the background documents for the ALWTRP and the take reduction planning process can be downloaded from the ALWTRP web site at http://www.nero.noaa.gov/whaletrp/. Copies of the most recent marine mammal stock assessment reports may be obtained by writing to Richard Merrick, NMFS, 166 Water St., Woods Hole, MA 02543 or can be downloaded from the Internet at http://www.nefsc.noaa.gov/psb/assesspdfs.htm. In addition, copies of the documents entitled “Defining Triggers for Temporary Area Closures to Protect Right Whales from Entanglements: Issues and Options” and “Identification of Seasonal Area Management Zones for North Atlantic Right Whale Conservation” are available by writing to Diane Borggaard, NMFS, Northeast Region, 1 Blackburn Dr., Gloucester, MA 01930 or can be downloaded from the ALWTRP website at http://www.nero.noaa.gov/whaletrp/. The complete text of the regulations implementing the ALWTRP can be found either in the Code of Federal Regulations (CFR) at 50 CFR 229.32 or downloaded from the website, along with a guide to the regulations.

Dated: July 8, 2005.
Rebecca Lent,
Deputy Asistant Administrator for Regulatory Programs, National Marine Fisheries Service.

[FR Doc. 05-13795 Filed 7-12-05; 8:45 am]

BILLING CODE 3510-22-S